DEPARTMENT OF DEFENSE

Office of the Secretary

[Docket ID: DoD-2016-OS-0001]

Proposed Collection; Comment Request

AGENCY: United States Southern Command, DoD.

ACTION: Notice.

SUMMARY: In compliance with the Paperwork Reduction Act of 1995, the United States Southern Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 14, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the United States Southern Command, Attention: SCSJA- Privacy Act Official, 9301 NW. 33rd St., Doral, FL 33172, or email javier.e.riverarosario.mil@mail.mil.

SUPPLEMENTARY INFORMATION:

Title; Associated Form; and OMB Number: SOUTHCOM Theater Enterprise Management System, OMB Control Number 0704-XXXX.

Needs and Uses: The information collection requirement is necessary to maintain a Single System of Record for all Enterprise Business services at USSOUTHCOM, to include Human Resources/Military Personnel records. Although each service has its own personnel records system, USSOUTHCOM requires basic personnel data for Command Manning Rosters and similar management purposes. The system will interface with those DoD systems, and present a single system dashboard to the USSOUTHCOM users.

Affected Public: Contractor personnel and Foreign Liaison Military assigned for duty with USSOUTHCOM.

Annual Burden Hours: 800.

Number of Respondents: 1,200.

Responses per Respondent: 2.

Annual Responses: 2,400.

Average Burden per Response: 20 minutes.

Frequency: Twice a year.

Respondents are personnel who will provide personnel information during on-boarding into the organization for employment purposes and will verify the information twice yearly for disaster preparedness readiness. This information is essential in maintaining the safety and security of US Southern Command employees during natural and man-made disaster.

Dated: January 8, 2016.
Aaron Siegel,
Alternate OSD Federal Register Liaison Officer, Department of Defense.

[FR Doc. 2016-00528 Filed 1-12-16; 8:45 am]

BILLING CODE 5001-06-P